DEPARTMENT OF THE INTERIOR

Bureau of Land Management

[CA-930-1920-ET-4064; CACA 43172]

Notice of Proposed Withdrawal and Opportunity for Public Meeting; California.

AGENCY: Bureau of Land Management, Interior.

ACTION: Notice.

SUMMARY: The Forest Service proposes to withdraw approximately 44,575 acres of National Forest System lands in the San Bernardino National Forest to maintain and conserve habitat for listed threatened and endangered species. This notice closes the lands for up to 2 years from mining. The lands will remain open to mineral leasing and the Materials Act of 1947.

DATES: Comments and requests for a public meeting must be received by January 28, 2002.

ADDRESSES: Brent Handley, Director, Lands & Minerals Management, Forest Service, Pacific Southwest Region, 1323 Club Drive, Vallejo, California 94592-1110.

FOR FURTHER INFORMATION CONTACT: Scott Eliason, San Bernardino National Forest, 909-866-3437, extension 3904.

SUPPLEMENTARY INFORMATION: On April 27, 2001, the San Bernardino National Forest, Forest Service, filed an application to withdraw the following described National Forest System lands from location and entry under the United States mining laws (30 U.S.C. Ch. 2), subject to valid existing rights:

San Bernardino Meridian

T. 1 N., R. 1 E.,

Sec. 1, lots 1 thru 4, inclusive, E½SE¼;

Sec. 2, lots 1 thru 4, inclusive, SW¼NW¼, NE¼SW¼;

Sec. 3, lots 1 and 2, SE¼NE¼, NE¼SE¼;

Sec. 5, SE¼NW¼, NE¼SW¼, SW¼SW¼;

Sec. 7, lots 3 and 4, NE¼NE¼, SW¼NE¼, SE¼NW¼, NE¼SW¼;

Sec. 12, S½SE¼;

Sec. 20, W½NW¼;

Sec. 22, NE¼SW¼, portion of SE¼SW¼ and portion of SE¼, both outside of wilderness;

Sec. 23, SW¼SW¼;

Sec. 26, portion of NW¼NW¼ outside of wilderness.

T. 2 N., R. 1 E.,

Secs. 1 to 5, inclusive;

Sec. 6, lots 1 thru 5, inclusive, S½NE¼, SE¼NW¼, NE¼SW¼, SE¼;

Secs. 7 to 9, inclusive;

Sec. 10, lots 1 and 2, W½NE¼, W½, portion of MS 1491;

Sec. 11, lots 1 and 2, N½NE½, SW¼NE¼, portion of MS 1491;

Sec. 12, N½N½, N½SW¼NE ¼, SE¼SW¼NE¼, SE¼NE¼, N½SE¼NW¼;

Sec. 16, Portion of NW¼ above lake;

Sec. 17, Portion of N½ above lake;

Sec. 18, Portion of N½ above lake;

Sec. 23, S½NE¼, NE¼NW¼, S½NW¼;

Sec. 25, N½NE¼, SE¼NE¼, NE¼SE¼;

Sec. 26, S½SW¼;

Sec, 27, NW¼NW¼, S½S½;

Sec. 28, N½NE¼;

Sec. 30, lots 1, 2, and 4, NW¼NE¼, SW¼SE¼;

Sec. 31, lots 3 and 5;

Sec. 33, E½NE¼;

Sec. 34, N½, N½SW¼, SE¼SW¼, SE¼;

Sec. 35, S½NE¼, W½NW¼, SE¼NW¼, S½;

Sec. 36, NE¼NE¼, SW¼NW¼, ½.

T. 3 N., R. 1 E.,

Sec. 17, N½SW¼, N½SW¼SW¼, SE¼SW¼, SW¼SE¼;

Sec. 19, W½NE¼, E½SW¼, E½W½SW¼, W½SE¼;

Sec. 20, lot 2, W½NE¼;

Sec. 21, NW¼NW¼;

Sec. 22, N½NW¼;

Sec. 23, N½SW¼, SE¼SW¼;

Sec. 25, NE¼, S½NE¼, NE¼NW¼, S½NW¼, N½SW¼ , N½SE¼;

Sec. 26, lots 1 thru 3, inclusive, SW¼NE¼, S½NW¼, N½SW¼, portions of MS 911 and MS 320A;

Sec. 27, NE¼, E½SW¼, SE¼;

Sec. 28, E½NW¼, NW¼NW¼, NE¼SW¼;

Sec. 29, S½S½;

Sec. 30, NE¼, E½NE¼NW¼, S½NW¼, S½;

Sec. 31, lots 1, 5, and 12, portion of lot 3, portion of lot 6, MS 2559, MS 3056, portion of MS 3055, portion of MS 6485;

Sec. 32, lots 1 thru 5, inclusive, lots 7, 8, 10, and 18, portions of lots 13 thru 16, inclusive, S½NW¼SE¼, S½SE¼, S½S½NE¼SW¼NE¼, S½S½NW¼SE¼NW¼, portion of SW¼SE¼NE¼, portion of SE¼SW¼NE¼, portion of MS 100, portion of MS 3055,portion of MS 6409, portion of MS 6485;

Sec. 33, SW¼NE¼ except portion of MS 95, NW¼NW¼ except portion of MS 92, S½NW¼, SW¼, W½SE¼, SE¼SE¼;

Sec. 34, NE¼, E½NW¼, N½SE¼, SE¼SE¼;

Sec. 35, NW¼NE¼ except portion of MS 3989 and portion of MS 3815, NW¼ except portion of MS 3988 and portion of MS 3989, NW¼SW¼, S½SW¼;

Sec. 36, SE¼NE¼, E½SE¼.

T. 1 N., R. 2 E.,

Sec. 1, lots 1 thru 4, inclusive, S½NE¼, SE¼NW¼, portion of N½SW¼, portion of SE¼SW¼, NE¼SE¼, S½SE¼ ;

Sec. 2, lots 3 and 4, SW¼NE¼, S½NW¼, S½;

Sec. 3, lots 1 thru 4, inclusive, S½NE¼, S½NW¼, SW¼, N½SE¼, SE¼SE¼;

Sec. 4, lots 1 thru 3, inclusive, S½NE¼, SE¼NW¼, E½SW¼, SE¼;

Sec. 5, lots 3 and 4, SE¼NE¼;

Sec. 6, lots 1 thru 7, inclusive, E½SW¼, SE¼;

Sec. 9, NE¼, N½ NW¼, SE¼NW¼, NE¼SW¼;

Sec. 10, N½NW¼;

Sec. 11, NW¼NE¼, N½NW¼, SW¼NW¼;

Sec. 12, N½NE¼, N½S½NE¼, NW¼;

Sec. 13, W½SW¼, SE¼SW¼, SW¼SE¼;

Sec. 16, S½NW¼, N½SW¼, N½SE¼, SE¼SE¼ ;

Sec. 18, NE¼SW¼, portion of S½SE¼ south of Hwy 38;

Sec. 19, Portion of NE¼NE¼ south of Hwy 38, NW¼NE¼;

Sec. 20, S½NE¼, portion of NW¼ south of Hwy 38, N½SE¼;

Sec. 21, NE¼NE¼, SW¼NW¼, NW¼SW¼;

Sec. 23, SE¼NE¼, S½SE¼;

Sec. 24, S½NW¼, N½SW¼, NW¼SE¼;

Sec. 26, N½NE¼, SE¼NE¼, SE¼NW¼, NE¼SW¼, NE¼SE¼, SW¼SE¼;

Sec. 27, NW¼;

Sec. 34, N½SE¼.

T. 2 N., R. 2 E.,

Sec. 5, lots 1 and 2 of NW¼, N½NW¼SW¼, N½NE¼SW¼;

Sec. 6, N½E½ lot 2 of NE¼, SE¼E½ lot 2 of NE¼, E½E½ lot 1 of NE¼, lot 2 of SW¼, S½ lot 1 of SW¼;

Sec. 7, NE¼NE¼, S½NE¼, N½ and N½S½ lot 1 of NW¼ , N½ lot 2 of NW¼ , N½S½ lot of NW¼;

Sec. 8, NW¼NW¼NW¼, S½NW¼NW¼, SW¼NW¼, SW¼SE¼NW¼ , NW¼SW¼ , E½SW¼SW¼ , SE¼SW¼;

Sec. 10, NE¼SE¼;

Sec. 13, SE¼SW¼, NW¼SE¼, S½SE¼;

Sec. 14, S½NW¼, E½SW¼, N½SE¼, SW¼SE¼;

Sec. 15, NW¼NW¼;

Sec. 17, SE¼NE¼NE¼, S½NW¼NW¼, S½N½, N½S½, NE¼SE¼SW¼, N½SW¼SE¼, SE¼SW¼SE¼, SE¼SE¼;

Sec. 18, S½N½NE¼, N½S½NE¼, SE¼SE¼NE¼;

Sec. 20, E½SE¼SW¼, S½NE¼SE¼, S½SE¼, S½NW¼SE¼;

Sec. 21, N½NE¼, N½NE¼NW¼, S½N½S½, S½S½;

Sec. 22, NE¼SW¼NW¼, NE¼SW¼, S½NW¼SW¼, S½SW¼, SW¼SE¼;

Sec. 23, W½NE¼, E½NW¼, NE¼SW¼, NW¼SE ¼;

Sec. 25, SE¼NE¼, SE¼SE¼SW¼, W½SW¼, W½SE¼SW¼, SE¼SE¼SW¼ , E½NE¼SE¼, S½SW¼SE¼, SE¼SE¼;

Sec. 26, SW¼NW¼, S½;

Sec. 27, E½NE¼NE¼, NW¼NE¼NE¼, N½NW¼NE¼, N½N½NW¼, S½ except portion of NE¼SW¼, portion of NE¼NW¼SW¼, portion of NE¼SE¼SW¼, portion of N½SW¼SE¼;

Sec. 28, N½N½NE¼, N½NW¼, S½;

Sec. 29, All except NE¼NW¼NW¼, NW¼NW¼, N½SW¼NW¼, portion of NE¼SE¼NE¼, SE¼SE¼NE¼;

Sec. 30, lots 2 of NW¼;

Sec. 31, lots 2 thru 4, inclusive, NE¼NE¼, S½NE¼, SE¼NW¼, NE¼SW¼, SE¼SW¼, SE¼;

Sec. 32, N½, SW¼, N½SE¼, SW¼SE¼;

Secs. 33 and 34, inclusive;

Sec. 35, N½, N½SW¼, SE¼SW¼, SE¼;

Sec. 36, all.

T. 3 N., R. 2 E.,

Sec. 17, W½E½NE¼, W½E½, SE¼SE¼;

Sec. 19, W½NW¼NE¼, SW¼NE¼, S½N½SE¼NE¼, S½SE¼NE¼, N½SW¼;

Sec. 20, N½N½NE¼;

Sec. 27, S½NW¼;

Sec. 29, SE¼SW¼;

Sec. 30, S½SE¼;

Sec. 31, NE¼, S½NW¼, S½;

Sec. 32, N½SW¼, SW¼SW¼, NW¼SE¼, SE¼SE¼, S½NW¼, NW¼NW¼, NE¼SE¼.

T. 1 N., R. 3 E.,

Sec. 5, lot 4, SW¼NW¼, W½SW¼, SE¼SW¼;

Sec. 6, all;

Sec. 7, Portion of lots 1, 2, and 5, and lot 6;

Sec. 8, NW¼, W½SW¼, NE¼SE¼;

Sec. 19, NW¼NW¼;

Sec. 20, SW¼NE¼, W½NW¼, NE¼SE¼, S½SE¼.

T. 2 N., R. 3 E.,

Sec. 17, S½SW¼;

Sec. 18, lot 4, SE¼SW¼, SE¼;

Sec. 19, lot 1, lots 4 thru 6, inclusive, NW¼NE¼, E½NW¼, NE¼SW¼, SE¼;

Sec. 20, lots 1,2, 4, and 5, NE¼NW¼, NE¼SW¼, S½SW¼, portion of SE¼ outside Wilderness;

Sec. 27, W½W½;

Sec. 28, Portion of SW¼NW¼ outside Wilderness, portion of NE¼SE¼ outside Wilderness, S½SE¼;

Sec. 29, Portion of N½NE¼ outside Wilderness, NE¼NW¼, SW¼NW¼, W½SW¼, SE¼SW¼, SE¼NE¼;

Sec. 30, lots 2 thru 4, inclusive, SW¼NE¼, SE¼NW¼, NE¼SW¼, SE¼SW¼, W½SE¼;

Sec. 31, lots 1 & 2, NE¼, E½NW¼;

Sec. 32, NW¼;

Sec. 33, N½NE¼;

Sec. 34, NW¼NE¼, N½NW¼.

T. 1 N., R. 1 W.,

Sec. 12, NE¼SE¼, SW¼SE¼;

Sec. 13, N½NE¼;

Sec. 15, portion of SW¼SE¼;

Sec. 22, NW¼NE¼.

T. 2 N., R. 1 W.,

Sec. 2, SW¼SW¼;

Sec. 3, lot 1 of NW¼, NE¼SW¼, NW¼SE¼;

Sec. 12, NE¼, E½SE¼;

Sec. 14, Portion of E½NE¼ west of Hwy 18, portion of NE¼SW¼ north of Hwy 18;

Sec. 16, SW¼SW¼;

Sec. 21, N½NW¼;

Sec. 22, Portion of NE¼SE¼;

Sec. 25, N½NE¼, SW¼NE¼, SW¼, W½SE¼, SE¼SE¼;

Sec. 34, SE¼NE¼, N½NW¼, SE¼NW¼, NE¼SW¼, N½SE¼;

Sec. 35, W½NE¼, NW¼;

Sec. 36, NE¼NW¼.

T. 3 N., R. 1 W.,

Sec. 10, SE¼NE¼;

Sec. 14, W½SE¼;

Sec. 16, W½SW¼;

Sec. 17, NW¼SW¼, E½SE¼;

Sec. 18, lots 2 thru 5, inclusive, SE¼;

Sec. 22, S½SW¼;

Sec. 25, lots 2 and 3, W½NE¼, NE¼SW¼, NW¼SE¼;

Sec. 26, NE¼NW¼, SW¼NW¼;

Sec. 27, lots 1thru 4, NE¼, N½NW¼;

Sec. 28, lots 1 and 2, E½NE¼;

Sec. 30, lots 4 and 5;

Sec. 31, lot 6 & 7, SW¼NE¼, N½SE¼, SE¼SE¼;

Sec. 32, SE¼NE¼, W½NW¼;

Sec. 33, W½NW¼;

Sec. 36, lot 1, lots 4 thru 8, inclusive, portion of MS 2559 and MS 3059 in NE¼NE¼ and S½NE¼, portion of MS 3059 in SE¼NW¼,SW¼, portion of MS 3056 in N½SE¼;

T. 2 N., R. 2 W.,

Sec. 25, NE¼SW¼, SE¼.

T. 3 N., R. 2 W.,

Sec. 11, SE¼SE¼;

Sec. 12, NE¼NE¼, SW¼SW¼;

Sec. 13, NW¼SW¼, SW¼NE¼, NW¼;

Sec. 14, S½NE¼, SE¼NW¼, S½, NE¼NE¼;

Sec. 15, S½SW¼, SE¼SE¼;

Sec. 21, NE¼NE¼, S½NE¼, SE¼NW¼, N½SW¼;

Sec. 22, N½NE¼, SE¼NE¼, N½NW¼, SE¼NW¼, NE¼SW¼, W½SE¼, SE¼SE¼;

Sec. 23, N½NE¼, NW¼, W½SW¼ ;

Sec. 24, SW¼SW¼, NE¼SW¼;

Sec. 25, lots 2 and 3, W½NE¼, S½NW¼, N½SW¼, NW¼SE¼;

Sec. 26, lots 3 and 4, NE¼, W½NW¼, portion of HES 235;

Sec. 27, E½NE¼.

T. 3 N., R. 5 W.,

Sec. 28, S½;

Sec. 29, S½NW¼NE¼, SE¼NE¼, S½N½SE¼NE¼, S½SE¼NE¼, NW¼, S½.

The areas described aggregate approximately 44,575 acres in San Bernardino County.

The purpose of the proposed withdrawal is to conserve listed threatened and endangered species and the habitat upon which they depend. The proposed withdrawal will facilitate implementation of several provisions of a court settlement resulting from a lawsuit filed against the Bureau of Land Management regarding the Endangered Species Act.

For a period of 90 days from the date of publication of this notice, all persons who wish to submit comments, suggestions, or objections in connection with the proposed withdrawal may present their views in writing to the Director, Lands & Minerals Management, Forest Service, Pacific Southwest Region, at the address listed above. Since the Forest Service is requesting this withdrawal, it is responsible for preparing any studies, analyses, and reports that are required by applicable statutes for the processing of this application. Those studies, analyses, and reports will be used by the Secretary of the Interior to make a decision as to whether this withdrawal should be authorized.

Notice is hereby given that an opportunity for a public meeting is afforded in connection with the proposed withdrawal. All interested persons who desire a public meeting for the purpose of being heard on the proposed withdrawal must submit a written request to the Director, Lands & Minerals Management, Forest Service, Pacific Southwest Region, at the address listed above, within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the lands will be segregated as specified above unless the application is denied or canceled or the withdrawal is approved prior to that date. The temporary uses which may be permitted during this segregative period are those which are determined to be compatible with the use of the lands by Forest Service.

Dated: September 7, 2001.
Angela Williams,
Acting Chief, Branch of Lands.

[FR Doc. 01-27094 Filed 10-26-01; 8:45 am]

BILLING CODE 4310-40-P